DEPARTMENT OF ENERGY

Federal Energy Regulatory Commission

[Project No. 12965-002]

Symbiotics, LLC; Notice of Application Tendered for Filing With the Commission and Establishing Procedural Schedule for Licensing and Deadline for Submission of Final Amendments; Take Notice That the Following Hydroelectric Application Has Been Filed With the Commission and Is Available for Public Inspection

a. Type of Application: Original Major License.

b. Project No.: 12965-002.

c. Date Filed: March 25, 2011.

d. Applicant: Symbiotics, LLC.

e. Name of Project: Wickiup Dam Hydroelectric Project.

f. Location: The proposed project would be constructed at the existing U.S. Bureau of Reclamation (Reclamation) Wickiup dam located on the Deschutes River near the city of LaPine in Deschutes County, Oregon. The project would occupy 1.02 acres of Federal lands jointly managed by the U.S. Forest Service and Reclamation.

g. Filed Pursuant to: Federal Power Act, 16 U.S.C. 791 (a)-825(r).

h. Applicant Contact: Brent L. Smith, Chief Operating Officer, Symbiotics, LLC, 371 Upper Terrace, Suite 2, Bend, OR 97702; telephone (541) 330-8779.

i. FERC Contact: Matt Cutlip, (503) 552-2762 or matt.cutlip@ferc.gov.

j. This application is not ready for environmental analysis at this time.

k. Project Description: The proposed project would consist of the following new facilities: (1) Two 8-foot-diameter by 75-foot-long steel penstocks would be connected to the existing twin outlet conduits above the existing regulating tube valves and combine into a 10-foot-diameter by 68-foot-long penstock that would deliver flow to a powerhouse; (2) two 8-foot-diameter isolation valves would be constructed within the 75-foot-long penstocks; (3) a 50-foot by 50-foot concrete powerhouse would be located on the northwest side of the existing concrete stilling basin and would house one generating unit with a total installed capacity of 7.15 megawatts; (4) a fish killing rotor system would be constructed downstream of the powerhouse draft tube to prevent non-native fish species from surviving Kaplan turbine passage into the Deschutes River downstream of the project; (5) a tailrace picket barrier would be constructed downstream of the fish killing rotor system to protect upstream migrating fish; (6) a 135-foot-long, 24.9-kilovolt transmission line would be buried and would connect the project to an existing power line; and (6) appurtenant facilities.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | June 2011.
Filing of recommendations, preliminary terms and conditions, and fishway prescriptions | August 2011.
Commission issues Draft EA | February 2012.
Comments on Draft EA | March 2012.
Modified Terms and Conditions | May 2012.
Commission Issues Final EA | August 2012.

o. Final amendments to the application must be filed with the Commission no later than 30 days from the issuance date of the notice of ready for environmental analysis.

Dated: April 7, 2011
Kimberly D. Bose,
Secretary.

[FR Doc. 2011-8891 Filed 4-12-11; 8:45 am]

BILLING CODE 6717-01-P